SMALL BUSINESS ADMINISTRATION

[Disaster Declaration #17310 and #17311; TENNESSEE Disaster Number TN-00132]

Presidential Declaration of a Major Disaster for the State of Tennessee

AGENCY: Small Business Administration.

ACTION: Notice.

SUMMARY: This is a Notice of the Presidential declaration of a major disaster for the State of Tennessee (FEMA-4637-DR), dated 01/14/2022.

Incident: Severe Storms, Straight-line Winds, and Tornadoes.

Incident Period: 12/10/2021 through 12/11/2021.

DATES: Issued on 01/14/2022.

Physical Loan Application Deadline Date: 03/15/2022.

Economic Injury (EIDL) Loan Application Deadline Date: 10/14/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 01/14/2022, applications for disaster loans may be filed at the address listed above or other locally announced locations.

The following areas have been determined to be adversely affected by the disaster:

Primary Counties (Physical Damage and Economic Injury Loans): Cheatham, Davidson, Dickson, Gibson, Henderson, Henry, Lake, Obion, Stewart, Sumner, Weakley, Wilson.

Contiguous Counties (Economic Injury Loans Only):

Tennessee: Benton, Cannon, Carroll, Chester, Crockett, Decatur, Dekalb, Dyer, Hardin, Hickman, Houston, Humphreys, Macon, Madison, Montgomery, Robertson, Rutherford, Smith, Trousdale, Williamson.

Kentucky: Allen, Calloway, Christian, Fulton, Graves, Hickman, Simpson, Trigg.

Missouri: New Madrid, Pemiscot.

The Interest Rates are:

| Percent
For Physical Damage:
Homeowners With Credit Available Elsewhere | 2.875
Homeowners Without Credit Available Elsewhere | 1.438
Businesses With Credit Available Elsewhere | 5.660
Businesses Without Credit Available Elsewhere | 2.830
Non-Profit Organizations With Credit Available Elsewhere | 1.875
Non-Profit Organizations Without Credit Available Elsewhere | 1.875
For Economic Injury:
Businesses & Small Agricultural Cooperatives Without Credit Available Elsewhere | 2.830
Non-Profit Organizations Without Credit Available Elsewhere | 1.875

The number assigned to this disaster for physical damage is 17310 C and for economic injury is 17311 0.

(Catalog of Federal Domestic Assistance Number 59008)

Barbara E. Carson,
Acting Associate Administrator for Disaster Assistance.

[FR Doc. 2022-01340 Filed 1-24-22; 8:45 am]

BILLING CODE 8026-03-P